DEPARTMENT OF THE INTERIOR

National Park Service

[NPS-WASO-NRNHL-DTS#-35886; PPWOCRADI0, PCU00RP14.R50000]

National Register of Historic Places; Notification of Pending Nominations and Related Actions

AGENCY: National Park Service, Interior.

ACTION: Notice.

SUMMARY: The National Park Service is soliciting electronic comments on the significance of properties nominated before May 13, 2023, for listing or related actions in the National Register of Historic Places.

DATES: Comments should be submitted electronically by June 9, 2023.

ADDRESSES: Comments are encouraged to be submitted electronically to National_Register_Submissions@nps.gov with the subject line “Public Comment on <property or proposed district name, (County) State.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 13, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

Kern County

Midway-Sunset Jack Plant, 25296 CA 33, approx. 1 mi. south of Derby Acres, Fellows vicinity, SG100009058

DISTRICT OF COLUMBIA

District of Columbia

Smothers Elementary School (Public School Buildings of Washington, DC MPS), 4400 Brooks St. NE, Washington, MP100009057

OHIO

Delaware County

Radnor Township Hall, 4425 OH 203, Radnor, SG100009061

Lorain County

Lorain Carnegie Public Library, 329 West 10th St., Lorain, SG100009060

OREGON

Coos County

Liberty Theatre, 2100 Sherman Ave., North Bend, SG100009056

Multnomah County

Pepper, Jim, House, 10809 NE Fremont St., Portland, SG100009051

Marshall, Dr. John D., Building, (African American Resources in Portland, Oregon, from 1851 to 1973 MPS), 2337 North Williams Ave., Portland, MP100009052

Wasco County

Wasco Warehouse & Milling Company Hydroelectric Project Historic District, White River Rd. and Sherars Bridge Hwy. (OR 216), Maupin vicinity, SG100009054

TEXAS

Howard County

Big Spring Downtown Historic District, Roughly bounded by 1st, Goliad, 6th, and South Gregg Sts., Big Spring, SG100009055

VIRGINIA

Pulaski County

Pulaski High School, 500 Pico Ter., Pulaski, SG100009049

A request for removal has been made for the following resource:

NEVADA

Clark County

Old Boulder City Hospital, 701 Park Pl., Boulder City, OT82003211

Authority: Section 60.13 of 36 CFR part 60.

Dated: May 17, 2023.
Sherry A. Frear,
Chief, National Register of Historic Places/National Historic Landmarks Program.

[FR Doc. 2023-11142 Filed 5-24-23; 8:45 am]

BILLING CODE 4312-52-P